DEPARTMENT OF HEALTH AND HUMAN SERVICES

Centers for Disease Control and Prevention

Board of Scientific Counselors, Center for Preparedness and Response, (BSC, CPR)

AGENCY: Centers for Disease Control and Prevention (CDC), Department of Health and Human Services (HHS).

ACTION: Notice of meeting.

SUMMARY: In accordance with the Federal Advisory Committee Act, the CDC announces the following meeting for the Board of Scientific Counselors, Center for Preparedness and Response, (BSC, CPR). This is a virtual meeting that is open to the public. The number of attendees is limited only by the number of internet conference accesses available, which is 500. Time will be available for public comment. Pre-registration is required by accessing the link in the addresses section.

DATES: The meeting will be held on June 1, 2022, from 1:00 p.m. to 5:00 p.m., EDT, and June 2, 2022, from 1:00 p.m. to 4:30 p.m., EDT.

ADDRESSES: Zoom Virtual Meeting. If you wish to attend the virtual meeting, please pre-register by accessing the link at: https://cdc.zoomgov.com/webinar/register/WN_5nWhKDP1RZyYki-NOXjMBA. Instructions to access the Zoom virtual meeting will be provided in the link following registration.

FOR FURTHER INFORMATION CONTACT: Dometa Ouisley, Office of Science and Public Health Practice, Centers for Disease Control and Prevention, 1600 Clifton Road NE, Mailstop-H21-6, Atlanta, Georgia 30329-4027, Telephone: (404) 639-7450; Facsimile: (678) 669-1667; Email: DOuisley@cdc.gov.

SUPPLEMENTARY INFORMATION:

Purpose: The Board is charged with providing advice and guidance to the Secretary, Department of Health and Human Services (HHS), the Assistant Secretary for Health (ASH), the Director, Centers for Disease Control and Prevention (CDC), and the Director, Center for Preparedness and Response (CPR), concerning strategies and goals for the programs and research within CPR, monitoring the overall strategic direction and focus of the CPR Divisions and Offices, and administration and oversight of peer review for CPR scientific programs. For additional information about the Board, please visit: https://www.cdc.gov/cpr/bsc/index.htm.

Matters To Be Considered: Day one the agenda will include: (1) CPR Division Updates; (2) COVID-19 Response Update; and (3) Review of CPR's Preparedness and Response Strategies and Science Priorities Update.

Day two the agenda will include: (1) State and Local Readiness Public Health Emergency Preparedness (PHEP) Discussion; (2) Strategic Capacity Building and Innovation Program Review Working (SRWG) Update; (3) Polio Containment Workgroup (PCWG) Update; and (4) BSC Discussion of Future Meeting Topics. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-08574 Filed 4-21-22; 8:45 am]

BILLING CODE 4163-18-P